DEPARTMENT OF HEALTH AND HUMAN SERVICES

Substance Abuse and Mental Health Services Administration

Fiscal Years (FY) 2003 Funding Opportunities

AGENCY: Substance Abuse and Mental Health Services Administration, HHS.

ACTION: Fiscal year (FY) 2003-2006 allotments to States for protection and advocacy for individuals with mental illness.

SUMMARY: The Substance Abuse and Mental Health Services Administration (SAMHSA) Center for Mental Health Services (CMHS) announces the availability of FY 2003 funds for grants for the following activity. This notice is not a complete description of the activity; potential applicants must obtain a copy of the Guidance for Applicants (GFA), including Part I, Fiscal Years (FY 2003-2006 Allotments to States for Protection and Advocacy for Individuals with Mental Illness (SM 03-F1), and Part II, General Policies and Procedures Applicable to all SAMHSA Applications for Discretionary Grants and Cooperative Agreements, before preparing and submitting an application.

Activity | Application deadline | Est. Funds FY 2003 | Est. number of awards | Project period (years)
FY 2003—2006 Allotments to States for Protection and Advocacy for Individuals with Mental Illness | October 1, 2002 | Formula | Formula | 4

The actual amount available for these grants will depend on the amount appropriated for the program. This program is being announced prior to the annual appropriation for FY 2003 for SAMHSA's programs. Applications are invited based on the assumption that sufficient funds will be appropriated to fund the program in FY 2003. This program is being announced at this time in order to allow applicants sufficient time to plan and prepare applications. Solicitation of applications in advance of a final appropriation will also enable the award of appropriated grant funds in an expeditious manner and thus allow prompt implementation and evaluation of promising practices. All applicants are reminded, however, that we cannot guarantee sufficient funds will be appropriated to permit SAMHSA to fund any applications. This program is authorized under the Protection and Advocacy for Individuals with Mental Illness Act of 1986, 42 U.S.C. 10801, et seq. (as amended in 2000). SAMHSA's policies and procedures for peer review and Advisory Council review of grant and cooperative agreement applications were published in the Federal Register (Vol. 58, No. 126) on July 2, 1993.

General Instructions

Applicants must use application form PHS 5161-1 (Rev. 7/00). The application kit contains the two-part application materials (complete programmatic guidance and instructions for preparing and submitting applications), the PHS 5161-1 which includes Standard Form 424 (Face Page), and other documentation and forms. Application kits may be obtained from: National Mental Health Services Knowledge Exchange Network (KEN), P.O. Box 42490, Washington, DC 20015. Telephone: 1-800-789-2647.

The PHS 5161-1 application form and the full text of the grant announcement are also available electronically via SAMHSA's World Wide Web home page: http://www.samhsa.gov, (Click on “Grant Opportunities”).

When requesting an application kit, the applicant must specify the particular announcement number for which detailed information is desired. All information necessary to apply, including where to submit applications and application deadline instructions, are included in the application kit.

Purpose

The U.S. Department of Health and Human Services (DHHS), Substance Abuse and Mental Health Services Administration (SAMHSA), Center for Mental Health Services (CMHS) will award grants to the eligible systems in each State to facilitate the fulfillment of the purpose of the Protection and Advocacy for Individuals with Mental Illness Act of 1986 [42 United States Code (U.S.C.) 10801, et seq.], hereafter referred to as the Act. The purpose of the Act is:

• To ensure that the rights of individuals with mental illness are protected; and,

• To assist States to establish and operate a protection and advocacy system for individuals with mental illness which will protect and advocate the rights of such individuals through activities to ensure the enforcement of the Constitution and Federal and State statutes; and,

• To investigate incidents of abuse and neglect of individuals with mental illness if the incidents are reported to the system or if there is probable cause to believe that the incidents occurred.

Eligibility

Under the terms of the Act, awards are made only to “eligible systems.” This means the system established in a State to protect and advocate the rights of persons with developmental disabilities under part C of the Developmental Disabilities Assistance and Bill of Rights Act, Public Law 106-402, as amended on October 30, 2000, hereafter, referred to as the DD Act [42 U.S.C. 6041 et seq.].

Availability of Funds

Monetary awards to eligible systems are provided as formula grants. The formula used to determine a PAIMI grant award is prescribed by the Secretary. In anticipation of an annual PAIMI appropriation and for purposes of this announcement, eligible State protection and advocacy systems are to prepare and submit a provisional budget for each fiscal year (FY) 2003-2006 based upon the PAIMI award received in the preceding FY. In FY 2002, the PAIMI awards were as follows: a minimum of $384,900 to each State, the District of Columbia and Puerto Rico; and $206,200 to each territory—the American Indian Consortium, American Samoa, Guam, the Northern Mariana Islands and the U.S. Virgin Islands. Future PAIMI allotments will depend upon the appropriation of funds.

Period of Support

A PAIMI application submitted on or before October 1 in FYs 2003, 2004, 2005 and 2006, shall be considered a request for a PAIMI Program award for that fiscal year. Each annual PAIMI grant award is available for obligation by a State protection and advocacy system for the Federal fiscal year in which it was awarded. Amounts not obligated by the system at the end of such year shall remain available to such system for the next fiscal year for the purposes for which the award was made. Funds shall not be carried over as additional authorization beyond that time period. For example, PAIMI awards made in FY 2002 (October 1, 2001) must be obligated by September 30, 2003 and expended by September 30, 2004. Each grant award is contingent on Congressional re-authorization of the PAIMI Act and the availability of appropriated funds. In fiscal years 2004, 2005 and 2006, each State protection and advocacy system must submit a continuation application and provide a set of the following documents: annual assurances, certifications, projected program expenditures, an information page and a list of program priorities and objectives for the fiscal year.

Criteria for Review and Funding

General Review Criteria: Competing applications requesting funding under this activity will be reviewed for technical merit in accordance with established PHS/SAMHSA peer review procedures. Review criteria that will be used by the peer review groups are specified in the application guidance material.

Award Criteria for Scored Applications

Applications will be considered for funding on the basis of their overall technical merit as determined through the peer review group and the appropriate National Advisory Council review process. Availability of funds will also be an award criterion.

Catalog of Federal Domestic Assistance Number

93.138.

Program Contact

For questions concerning program issues, contact: Ms. Karen S. Armstrong, M.S., J.D., Senior Public Health Advisor, Protection and Advocacy Program, SAMHSA, Center for Mental Health Services, State Planing and Systems Development Branch, 5600 Fishers Lane, 15C-21, Rockville, MD 20857. Office: (301) 443-3667. Fax: (301) 443-7926. E-mail: KArmstro@SAMHSA.gov.

Alternate: Ms. Marie Danforth, M.S.W., Chief, State Planing and Systems Development Branch, Division of State and Community Systems Development, SAMHSA, Center for Mental Health Services, 5600 Fishers Lane, 15C-26, Rockville, MD 20857. Office: (301) 443-3667. Fax: (301) 443-5427. E-mail: MDanforth@SAMHSA.gov.

For questions regarding grants management issues, contact: Ms. LouEllen Rice, Grants Management Officer, Division of Grants Management, Office of Program Services, SAMHSA, 5600 Fishers Lane, 13-103, Rockville, Maryland 20857. (301) 443-4456. E-mail: LRice@SAMHSA.gov.

Public Health System Reporting Requirements

The Public Health System Impact Statement (PHSIS) is intended to keep State and local health officials apprised of proposed health services grant and cooperative agreement applications submitted by community-based nongovernmental organizations within their jurisdictions.

Community-based nongovernmental service providers who are not transmitting their applications through the State must submit a PHSIS to the head(s) of the appropriate State and local health agencies in the area(s) to be affected not later than the pertinent receipt date for applications. This PHSIS consists of the following information:

a. A copy of the face page of the application (Standard form 424).

b. A summary of the project (PHSIS), not to exceed one page, which provides:

(1) A description of the population to be served.

(2) A summary of the services to be provided.

(3) A description of the coordination planned with the appropriate State or local health agencies.

State and local governments and Indian Tribal Authority applicants are not subject to the Public Health System Reporting Requirements. Application guidance materials will specify if a particular FY 2003 activity is subject to the Public Health System Reporting Requirements.

PHS Non-Use of Tobacco Policy Statement

The PHS strongly encourages all grant and contract recipients to provide a smoke-free workplace and promote the non-use of all tobacco products. In addition, Public Law 103-227, the Pro-Children Act of 1994, prohibits smoking in certain facilities (or in some cases, any portion of a facility) in which regular or routine education, library, day care, health care, or early childhood development services are provided to children. This is consistent with the PHS mission to protect and advance the physical and mental health of the American people.

Executive Order 12372

Applications submitted in response to the FY 2003 activity listed above are subject to the intergovernmental review requirements of Executive Order 12372, as implemented through DHHS regulations at 45 CFR part 100. E.O. 12372 sets up a system for State and local government review of applications for Federal financial assistance. Applicants (other than Federally recognized Indian tribal governments) should contact the State's Single Point of Contact (SPOC) as early as possible to alert them to the prospective application(s) and to receive any necessary instructions on the State's review process. For proposed projects serving more than one State, the applicant is advised to contact the SPOC of each affected State. A current listing of SPOCs is included in the application guidance materials or on SAMHSA's Web site under “Assistance with Grant Applications”. The SPOC should send any State review process recommendations directly to: Division of Extramural Activities, Policy, and Review, Substance Abuse and Mental Health Services Administration, Parklawn Building, Room 17-89, 5600 Fishers Lane, Rockville, Maryland 20857.

The due date for State review process recommendations is no later than 60 days after the specified deadline date for the receipt of applications. SAMHSA does not guarantee to accommodate or explain SPOC comments that are received after the 60-day cut-off.

Dated: September 20, 2002.
Richard Kopanda,
Executive Officer, SAMHSA.

[FR Doc. 02-24365 Filed 9-24-02; 8:45 am]

BILLING CODE 4162-20-P